DEPARTMENT OF TRANSPORTATION

Federal Aviation Administration

Notice of Intent To Rule on Application To Use a Passenger Facility Charge (PFC) at Hilton Head Airport, Hilton Head Island, SC

AGENCY: Federal Aviation Administration (FAA), DOT.

ACTION: Notice of intent to rule on application.

SUMMARY: The FAA proposes to rule and invites public comment on the application to use the revenue from a PFC at Hilton Head Island Airport under the provisions of the Aviation Safety and Capacity Expansion Act of 1990 (Title IX of the Omnibus Budget Reconciliation Act of 1990) (Public Law 101-508) and Part 158 of the Federal Aviation Regulations (14 CFR part 158).

DATES: Comments must be received on or before March 13, 2002.

ADDRESSES: Comments on this application may be mailed or delivered in triplicate to the FAA at the following address: Atlanta Airports District Office, 1701 Columbia Avenue, Campus Building, Suite 2-260, College Park, Georgia 30337-2747.

In addition, one copy of any comments submitted to the FAA must be mailed or delivered to Mr. John Lawson, Airport Director of the County Council of Beaufort County, Hilton Head Island Airport at the following address: P.O. Box 23739, 120 Beach City Road, Hilton Head Island, SC 29925.

Air carriers and foreign air carriers may submit copies of written comments previously provided to the County Council of Beaufort County, Hilton Head Island Airport under section 158.23 of part 158.

FOR FURTHER INFORMATION CONTACT: Aimee McCormick, Program Manager, Atlanta Airports District Office, 1701 Columbia Avenue, Campus Building, Suite 2-260, College Park, Georgia 30337-2747, (404) 305-7153. The application may be reviewed in person at this same location.

SUPPLEMENTARY INFORMATION: The FAA proposes to rule and invites public comment on the application to use the revenue from a PFC at Hilton Head Island Airport under the provisions of the Aviation Safety and Capacity Expansion Act of 1990 (Title IX of the Omnibus Budget Reconciliation Act of 1990) (Public Law 101-508) and part 158 of the Federal Aviation Regulations (14 CFR part 158).

On January 31, 2002 the FAA determined that the application to use the revenue from a PFC submitted by Hilton Head Island Airport was substantially complete within the requirements of section 158.25 part 158. The FAA will approve or disapprove the application, in whole or in part, no later than May 4, 2002.

The following is a brief overview of the application.

PFC Application No.: 02-03-U-00-HXD.

Level of the proposed PFC: $3.00.

Proposed charge effective date: December 1, 200.

Proposed charge expiration date: October 1, 2007.

Total estimated net PFC revenue: $2,076,657.

Brief description of proposed project(s): Land acquisition for aeronautical development and general aviation development.

Class or classes of air carriers, which the public agency has requested, not be required to collect PFCs: Part 135 on-demand air taxi/commercial carriers that do not enplane at least 1% of the airport's annual enplanements.

Any person may inspect the application in person at the FAA office listed above under FOR FURTHER INFORMATION CONTACT.

In addition, any person may, upon request, inspect the application, notice and other documents germane to the application in person at the Hilton Head Island Airport.

Issued in Atlanta, Georgia on January 31, 2002.
Scott Seritt,
Manager, Atlanta Airports District Office, Southern Region.

[FR Doc. 02-3245 Filed 2-8-02; 8:45 am]

BILLING CODE 4910-13-M